DEPARTMENT OF ENERGY

Federal Energy Regulatory Commission

Notice of FERC Staff Attendance at Meetings of New York Independent System Operator, Inc.

June 20, 2006.

The Federal Energy Regulatory Commission hereby gives notice that members of its staff may attend the meeting noted below of the New York Independent System Operator. The attendance by staff is part of the Commission's ongoing outreach efforts.

Electric System Planning Working Group (ESPWG), June 22, 2006, 10 a.m.-4 p.m. (EDT), New York State Nurses Association, 11 Cornell Road, Lantham, NY 12210.

The discussions may address matters at issue in the following proceedings:

Docket No. ER04-449, New York Independent System Operator, Inc.

Docket No. EL06-1, New York Independent System Operator, Inc.

The meeting is open to the public.

For additional information, contact Rachel Spiker, Office of Energy Markets and Reliability at 202-502-8801 or by e-mail at Rachel.spiker@ferc.gov

Magalie R. Salas,
Secretary.

[FR Doc. E6-10156 Filed 6-27-06; 8:45 am]

BILLING CODE 6717-01-P